DEPARTMENT OF HEALTH AND HUMAN SERVICES

National Institutes of Health

National Institute on Deafness and Other Communication Disorders; Amended Notice of Meeting

Notice is hereby given of a change in the meeting of the National Institute on Deafness and Other Communication Disorders Special Emphasis Panel, October 11, 2013, 08:00 a.m. to October 11, 2013, 02:30 p.m., Embassy Suites at the Chevy Chase Pavilion, 4300 Military Road, NW., Washington, DC, 20015 which was published in the Federal Register on September 16, 2013, 78 FR 56902.

This meeting will be held on November 19, 2013 from 08:30 a.m. to 03:30 p.m. at the Residence Inn Bethesda Downtown, 7335 Wisconsin Avenue, Bethesda, MD 20814. The meeting is closed to the public.

Dated: October 22, 2013.
Melanie J. Gray,
Program Analyst, Office of Federal Advisory Committee Policy.

[FR Doc. 2013-25233 Filed 10-25-13; 8:45 am]

BILLING CODE 4140-01-P